DEPARTMENT OF THE INTERIOR

U.S. Geological Survey

Application Notice Describing the Areas of Interest and Establishing the Closing Date for Receipt of Applications Under the National Earthquake Hazards Reduction Program (NEHRP) for Fiscal Year (FY) 2002

AGENCY: Department of the Interior, U.S. Geological Survey.

ACTION: Notice.

SUMMARY: Applications are invited for research projects under the NEHRP.

The purpose of this Program is to support the USGS Earthquake Hazards Program by providing products for earthquake loss reduction to the public and private sectors and by carrying out research on earthquake occurrence and effects.

Applications may be submitted by educational institutions, private firms, private foundations, individuals, and agencies of state and local governments.

ADDRESSES: The program announcement is expected to be available on or about March 1, 2001. You may obtain a copy of Announcement No. 02HQPA0001 from the USGS Contracts and Grants Information Site at http://www.usgs.gov/contracts/nehrp/ or by writing to Sherri Newman, U.S. Geological Survey, Office of Acquisition and Grants—Mail Stop 205G, 12201 Sunrise Valley Drive, Reston, Virginia 20192, or by fax (703) 648-7901.

DATES: The closing date for receipt of applications will be on or about May 1, 2001. The actual closing date will be specified in Announcement No. 02HQPA0001.

FOR FURTHER INFORMATION CONTACT: John Unger, Earthquake Hazards Reduction Program—U.S. Geological Survey, Mail Stop 905, 12201 Sunrise Valley Drive, Reston, Virginia 20192. Telephone: (703) 648-6701.

SUPPLEMENTARY INFORMATION: Authority for this program is contained in the Earthquake Hazards Reduction Act of 1977, Public Law 95-124 (42 U.S.C. 7701, et seq.). The Office of Management and Budget Catalog of Federal Domestic Assistance Number is 15.807.

Dated: February 15, 2001.
Patricia P. Dunham,
Deputy Chief, Office of Administrative Policy and Services.

[FR Doc. 01-5460 Filed 3-5-01; 8:45 am]

BILLING CODE 4310-Y7-M